Proclamation 9890 of May 17, 2019

Emergency Medical Services Week, 2019

By the President of the United States of America

A Proclamation

During Emergency Medical Services Week, we pay tribute to our Nation's Emergency Medical Services (EMS) providers, whose selfless dedication and extraordinary efforts help save countless lives each day. As the first link to emergency medical care, EMS personnel are a critical component of our healthcare system. Day or night, faithful EMS first responders—many of whom are volunteers—intensively prepare for and stand at the ready to help their fellow Americans through chaotic and distressing situations.

In the last year, our Nation has experienced some of the largest and most destructive wildfires, hurricanes, tornadoes, and mudslides in recent history. In places like California, Florida, Alabama, North Carolina, South Carolina, Virginia, Maryland, and other parts of our country, EMS providers have selflessly performed their duties under challenging and hazardous conditions. At the risk of their own safety and well-being, EMS personnel acted quickly to deliver critical assistance. They moved residents who were homebound, hospitalized, or in nursing homes out of harm's way before and during natural disasters, and provided medical care for thousands of displaced citizens for weeks after the disasters.

As President, I will never lose sight of the vital contributions that our country's emergency responders make to their fellow citizens. My Administration remains committed to working with State and local partners to ensure that EMS personnel are fully trained and prepared to meet the needs of their communities. Many rural EMS agencies, in particular, face unique challenges in delivering quality care. Last year, I signed into law the Agricultural Improvement Act of 2018, which reauthorizes funding for EMS agencies in rural areas of our country to access the training and equipment they need to perform their duties safely, effectively, and efficiently. To allow EMS providers additional flexibility, the Department of Health and Human Services recently announced the Emergency Triage, Treat, and Transport model for care delivery. This model is designed to allow ambulatory care providers to be compensated in innovative ways through Medicare when responding to emergency medical calls from beneficiaries.

First responders also continue to be at the forefront of dealing with the terrible effects of the opioid crisis, routinely responding to situations where someone has fallen victim to an opioid overdose. The Office of National Drug Control Policy has released extensive guidance on how emergency providers can stay safe when tending to opioid-related events. Additionally, my Administration has taken steps to expand the supply of life-saving naloxone to first responders nationwide. We must ensure that our EMS personnel have the necessary training and resources to help those who tragically end up in dire need due to opioid overdoses.

In every circumstance, and in crises where every second counts, EMS providers demonstrate courage and devotion to saving lives. They protect the health and safety of others with unmatched skill and extraordinary resolve. This month, and always, we express our endless gratitude and respect to the fine men and women of our country's EMS agencies for their continued commitment to excellence in emergency care.

NOW, THEREFORE, I, DONALD J. TRUMP, President of the United States of America, by virtue of the authority vested in me by the Constitution and the laws of the United States, do hereby proclaim May 19 through May 25, 2019, as Emergency Medical Services Week. I encourage all Americans to observe this occasion by showing their support for local EMS professionals through appropriate programs, ceremonies, and activities.

IN WITNESS WHEREOF, I have hereunto set my hand this seventeenth day of May, in the year of our Lord two thousand nineteen, and of the Independence of the United States of America the two hundred and forty-third.

[FR Doc. 2019-10865

Filed 5-21-19; 11:15 am]

Billing code 3295-F9-P